DEPARTMENT OF HOMELAND SECURITY

Coast Guard

[Docket No. USCG-2017-0884]

Availability of Navigation and Vessel Inspection Circular, Guidance Implementing the Maritime Labour Convention, 2006

AGENCY: Coast Guard, DHS.

ACTION: Notice of availability.

SUMMARY: The Coast Guard announces the availability of Navigation and Vessel Inspection Circular (NVIC) 02-13, Change (1) entitled, “Guidance Implementing the Maritime Labour Convention, 2006.” This change incorporates the 2014 amendments to the Maritime Labour Convention (MLC) related to financial liability for repatriation of seafarers (MLC Regulation 2.5.2) and financial security relating to shipowners' liability in cases of seafarer injury or death (MLC Regulation 4.2.1) into the existing voluntary compliance framework for vessels that engage on international voyages to those countries that are signatory to the MLC. NVIC 02-13, Change (1) is available as indicated in this notice.

FOR FURTHER INFORMATION CONTACT: If you have questions on Change (1) to Navigation and Vessel Inspection Circular (NVIC) 02-13 call or email LCDR Christopher Nichols, Coast Guard at telephone 202-372-1208 or email Christopher.M.Nichols@uscg.mil.

SUPPLEMENTARY INFORMATION:

Public Participation and Comments

The changes to the NVIC are minor and do not impose any new requirements on ship owners or operators. These changes include updates to the Statement of Voluntary Compliance—Declaration of Maritime Labour Compliance (SOVC-DMLC) Parts I and II and the Owner/Operator Declaration of Maritime Labour Compliance (NVIC Enclosures (4), (5) and (6) respectively), to reflect the requirements relating to financial security for the repatriation of seafarers and financial security relating to shipowners' liability in cases of seafarer injury or death. In addition, a new form letter has been provided in Enclosure (12) which will serve as documentary evidence of financial security. The provisions of this NVIC are voluntary in nature. As such, no public participation or comment period is necessary.

Access to the NVIC

A copy of Navigation and Vessel Incpection Circular (NVIC) 02-13, Change (1) is available at the following Coast Guard Web site: https://www.uscg.mil/hq/cg5/nvic/nvic.asp.

Dated: September 14, 2017.
F.J. Sturm,
Acting Director of Commercial Regulations and Standards, U.S. Coast Guard.

[FR Doc. 2017-19894 Filed 9-18-17; 8:45 am]

BILLING CODE 9110-04-P